DEPARTMENT OF THE INTERIOR

National Park Service

Final Environmental Impact Statement, General Management Plan Amendment, Wilderness and Backcountry Management Plan, Josua Tree National Park, Riverside and San Bernardino Counties, California; Notice of Approval of Record of Decision

SUMMARY: Pursuant to § 102(2)(C) of the National Environmental Policy Act of 1969 (P.L. 91-190, as amended) and the regulations promulgated by the Council on Environmental Quality (40 CFR Part 1505.2), the Department of the Interior, National Park Service has prepared and approved a Record of Decision for the Final Environmental Impact Statement Wilderness and Backcountry Management Plan for Joshua Tree National Park. The no action period was initiated November 5, 1999, with the U.S. Environmental Protection Agency's Federal Register notification of the filing of the Final Environmental Impact Statement (FEIS).

Decision: The National Park Service will implement wilderness stewardship actions, monitoring, research, and other elements of a comprehensive program described as the New Proposed Action (Alternative E), as soon as practical. This course of action and four alternatives were identified and analyzed in the Final and Supplemental Environmental Impacts Statements (latter issued November 2, 1998). The Draft Environmental Impact Statement was distributed on November 21, 1997.

Copies: Interested parties desiring to review the Record of Decision may obtain a copy by contacting the Superintendent, Joshua Tree National Park, 74485 National Park Dr., Twentynine Palms, California 92277-3597; or via telephone request at (760) 367-5502.

Dated: January 14, 2000.
William C. Walters,
Deputy Regional Director, Pacific West Region.

[FR Doc. 00-2027 Filed 1-28-00; 8:45 am]

BILLING CODE 4310-70-P